DEPARTMENT OF COMMERCE

National Oceanic and Atmospheric Administration

[I.D. 041505D]

Pacific Fishery Management Council; Public Meetings

AGENCY: National Marine Fisheries Service (NMFS), National Oceanic and Atmospheric Administration (NOAA), Commerce.

ACTION: Notice of public meeting.

SUMMARY: The Groundfish Stock Assessment Review (STAR) Panel for Pacific ocean perch, darkblotched rockfish, and cabezon will hold a work session which is open to the public.

DATES: The Pacific ocean perch, darkblotched rockfish, and cabezon STAR Panel will meet beginning at 8 a.m., Monday, May 16, 2005. The meeting will continue through Friday, May 20, 2005 beginning at 8 a.m. every morning. The meetings will end at 5 p.m. each day, or as necessary to complete business.

ADDRESSES: See SUPPLEMENTARY INFORMATION for specific information regarding dates, times and locations for the meetings.

Council address: Pacific Fishery Management Council, 7700 NE Ambassador Place, Suite 200, Portland, OR 97220-1384.

FOR FURTHER INFORMATION CONTACT: Ms. Stacey Miller, NWFSC; telephone: 206-860-3480; or Mr. John DeVore, Pacific Fishery Management Council; telephone: 503-820-2280.

SUPPLEMENTARY INFORMATION:

Dates, Locations and Times of the Meetings

The Pacific ocean perch, darkblotched rockfish, and cabezon STAR Panel meeting will be held at National Marine Fisheries Service (NMFS), Northwest Fisheries Science Center (NWFSC), 2725 Montlake Boulevard East, Seattle, WA 98112; telephone: 206-860-3200, on Monday, May 16, 2005, Tuesday, May 17, 2005, Wednesday, May 18, 2005 and again on Friday, May 20, 2005.

On Thursday, May 19, 2005, the Pacific ocean perch, darkblotched rockfish, and cabezon STAR Panel meeting will be held at the University Inn, 4140 Roosevelt Way NE, Seattle, WA 98105; telephone: 206-632-5055.

The purpose of the STAR Panel meeting is to review draft stock assessment documents and any other pertinent information, work with the Stock Assessment Teams to make necessary revisions, and produce a STAR Panel report for use by the Council family and other interested persons. No management actions will be decided by the STAR Panel. The STAR Panel's role will be development of recommendations and reports for consideration by the Council's Scientific and Statistical Committee at its June meeting in Foster City, CA.

Although non-emergency issues not contained in the meeting agenda may come before the STAR Panel participants for discussion, those issues may not be the subject of formal STAR Panel action during this meeting. STAR Panel action will be restricted to those issues specifically listed in this notice and any issues arising after publication of this notice that require emergency action under Section 305(c) of the Magnuson-Stevens Fishery Conservation and Management Act, provided the public has been notified of the STAR Panel participants' intent to take final action to address the emergency.

Special Accommodations

This meeting is physically accessible to people with disabilities. Requests for sign language interpretation or other auxiliary aids should be directed to Ms. Carolyn Porter at 503-820-2280 at least 5 days prior to the meeting date.

Entry to the NWFSC requires visitors to show a valid picture ID and register with security. A visitor's badge, which must be worn while at the NWFSC facility, will be issued to non-federal employees participating in the meeting.

Dated: April 15, 2005.
Emily Menashes,
Acting Director, Office of Sustainable Fisheries, National Marine Fisheries Service.

[FR Doc. E5-1858 Filed 4-19-05; 8:45 am]

BILLING CODE 3510-22-S